DEPARTMENT OF AGRICULTURE

Food Safety and Inspection Service

[Docket No. FSIS-2011-0023]

Pre-Harvest Food Safety for Cattle; Public Meeting

AGENCY: Food Safety and Inspection Service, USDA.

ACTION: Notice of public meeting.

SUMMARY: This notice is announcing that the Food Safety and Inspection Service (FSIS), the Animal and Plant Health Inspection Service (APHIS), and the Agricultural Research Service (ARS), are hosting a public meeting to seek input on pre-harvest pathogen control strategies designed to reduce the likelihood that beef will be contaminated with pathogens of public health concern, such as Shiga toxin- producing E. coli and Salmonella, during the slaughter process.

DATES: The public meeting will be held on Wednesday, November 9, 2011, on-site registration is at 8 a.m., the meeting is 8:30 a.m. to 5 p.m.

ADDRESSES: The public meeting will be held at the USDA Center at Riverside, 4700 River Road, 1st floor—Oklahoma City Memorial Conference Center, Riverdale, MD 20737 (parking is $5.00 by cash or credit card—see http://www.USDACenteratRiversideFY11_USDACenteratRiverside.pdf for information on the Riverdale, MD facility).

FSIS will finalize an agenda on or before the meeting and post it on the FSIS Web page at http://www.fsis.usda.gov/News/Meetings_&_Events/.

Pre-registration is recommended. To pre-register, visit the FSIS Web site at: http://www.fsis.usda.gov/News/Meetings_&_Events/.

FSIS welcomes comments until January 3, 2012, on this meeting. Comments may be submitted by any of the following methods:

—Federal eRulemaking Portal: This Web site provides the ability to type short comments directly into the comment field on this Web page or attach a file for lengthier comments. Go to Regulations.Gov at http://www.regulations.gov/ and follow the online instructions at that site for submitting comments.

—Mail, including floppy disks or CD-ROMs: Send to Docket Clerk, U.S. Department of Agriculture (USDA), FSIS Docket Room, 1400 Independence Avenue, SW., Patriots Plaza 3, Mailstop 3782, Room 163A, Washington, DC 20250-3700.

Instructions: All items submitted by mail or electronic mail must include the Agency name and docket number FSIS-2011-0023. Comments received in response to this docket will be made available for public inspection and posted without change, including any personal information, to http://www.regulations.gov.

FOR FURTHER INFORMATION CONTACT: Daniel Engeljohn, PhD, Assistant Administrator for Office of Policy and Program Development, FSIS, USDA, Room 349-E, Jamie Whitten Building, 14th and Independence Avenue, SW., Washington, DC 20250-3700; telephone (202) 205-0495, fax (202) 720-2025, email daniel.engeljohn@fsis.usda.gov.

SUPPLEMENTARY INFORMATION:

Background

During the 1990s, research programs conducted by ARS on pre-harvest included projects to evaluate technology and management methods to help producers achieve lower contamination levels in animals presented for slaughter.¹

¹ Federal Register/Vol. 61, No. 144. Thursday, July 25, 1996 http://www.fsis.usda.gov/Oa/fr/rule4.pdf.

In 2008, FSIS began to promote cattle pre-harvest interventions to prevent foodborne illness and improve food safety throughout the farm-to-table continuum. The condition of the animals entering plants, and at slaughter, and the contamination rates on their hides and elsewhere affect the ability to mitigate risk at slaughter and through the rest of the food system. Pre-harvest food safety interventions can prevent foodborne illness by helping to reduce risk in the farm-to-table continuum.

FSIS published cattle pre-harvest guidelines ² to inform beef slaughter establishments of the interventions that can be applied before slaughter, such as on-site farm management controls, to help reduce E. coli O157:H7 shedding in cattle. FSIS encourages farmers and ranchers, packers and processors, and scientists in academia, industry, and government, to collaborate in identifying the best technology and practices to reduce contamination before slaughter. Collaboration on such food safety efforts benefits beef producers, slaughterers, processors, and consumers.

² Pre-Harvest Management Controls and Intervention Options for Reducing Escherichia Coli O157:H7 Shedding in Cattle May 2010 http://www.fsis.usda.gov/PDF/Reducing_Ecoli_Shedding_In_Cattle_0510.pdf.

Pre-Harvest Guideline Recommendations

FSIS recommends that slaughter establishments procure their cattle from beef producers that implement one or more documented pre-harvest management practices to reduce fecal shedding of enteric pathogens. Research on pre-harvest interventions is ongoing. Pre-harvest interventions that can eliminate fecal shedding of enteric pathogens have yet to be discovered; however, current research suggests that at least two pre-harvest interventions, certain probiotics and vaccines, have the potential to be effective in reducing fecal shedding in cattle. FSIS encourages slaughter establishments to share this information with their suppliers and to use it in designing their food safety systems.

The goals for this meeting on pre-harvest food safety for cattle are:

1. Food safety improvement through identification and development of effective pre-harvest practices.

2. Creating an increased focus on pre-harvest food safety and the identification and development of incentives for producers and processors to adopt effective pre-harvest practices.

3. Increased producer engagement to emphasize their importance in the overall food safety system.

4. Finding effective solutions through discrete projects, including demonstration projects of new technologies and implementation of best practices.

The end product of this meeting would be the identification of effective and practical pre-harvest practices, the identification of incentives for producers and processors to adopt such measures, and the establishment of an ongoing dialogue regarding pre-harvest food safety. Also, FSIS will present a summary of the recent input from the National Advisory Committee on Meat and Poultry Inspection on pre-harvest issues.

FSIS, APHIS, and ARS have developed the following questions for discussion at the meeting:

What factors influence shedding of Salmonella and Escherichia coli (E. coli) O157:H7 and other Shiga toxin-producing E. coli (STEC) (e.g., age of cattle, stress conditions)?

What effective and practical treatments or mitigation measures are available to reduce the pathogen load in general, and Salmonella and STECs specifically?

How can producers, processors, and government work together to incentivize pre-harvest food safety practices and interventions?

A key outcome of this meeting will be to provide the agencies with the information to develop a “best practice” guidance document. The draft guidance document would be made available for comment-and ultimately for use by all stakeholders.

USDA Nondiscrimination Statement

USDA prohibits discrimination in all its programs and activities on the basis of race, color, national origin, gender, religion, age, disability, political beliefs, sexual orientation, and marital or family status (Not all prohibited bases apply to all programs).

Persons with disabilities who require alternative means for communication of program information (Braille, large print, and audiotape) should contact USDA's Target Center at (202) 720-2600 (voice and TTY).

To file a written complaint of discrimination, write USDA, Office of the Assistant Secretary for Civil Rights, 1400 Independence Avenue, SW., Washington, DC 20250-9410 or call (202) 720-5964 (voice and TTY). USDA is an equal opportunity provider and employer.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives and notices. Customers can add or delete subscriptions themselves, and have the option to password protect their accounts.

Done at Washington, DC, on: October 6, 2011.
Alfred V. Almanza,
Administrator.

[FR Doc. 2011-26541 Filed 10-13-11; 8:45 am]

BILLING CODE 3410-DM-P